SECURITIES AND EXCHANGE COMMISSION

[Release No. 34-79062; File No. SR-NYSEArca-2016-64]

Self-Regulatory Organizations; NYSE Arca, Inc.; Notice of Withdrawal of a Proposed Rule Change, as Modified by Amendment Nos. 1 and 2, To List and Trade Shares of the AdvisorShares KIM Korea Equity ETF

October 6, 2016.

I. Introduction

On May 2, 2016, NYSE Arca, Inc. (“Exchange”) filed with the Securities and Exchange Commission (“Commission”), pursuant to Section 19(b)(1) of the Securities Exchange Act of 1934 (“Act”) ¹ and Rule 19b-4 thereunder,² a proposed rule change to list and trade shares of the AdvisorShares KIM Korea Equity ETF under NYSE Arca Equities Rule 8.600. On May 13, 2016, the Exchange submitted Amendment No. 1 to the proposed rule change.³ The Commission published notice of the proposed rule change, as modified by Amendment No. 1, in the Federal Register on May 23, 2016.⁴ On May 23, 2016, the Exchange submitted Amendment No. 2 to the proposed rule change.⁵ On July 7, 2016, pursuant to Section 19(b)(2) of the Act,⁶ the Commission designated a longer period within which to approve the proposed rule change, disapprove the proposed rule change, or institute proceedings to determine whether to disapprove the proposed rule change.⁷ On August 18, 2016, the Commission instituted proceedings under Section 19(b)(2)(B) of the Act ⁸ to determine whether to approve or disapprove the proposed rule change.⁹ The Commission received no comments on the proposed rule change. On September 28, 2016, the Exchange withdrew the proposed rule change.

¹ 15 U.S.C. 78s(b)(1).

² 17 CFR 240.19b-4.

³ Amendment No. 1 replaced and superseded the original filing in its entirety. Amendment No. 1 is available at https://www.sec.gov/comments/sr-nysearca-2016-64/nysearca201664-1.pdf.

⁴ See Securities Exchange Act Release No. 34-77847 (May 17, 2016), 81 FR 32364.

⁵ Amendment No. 2 replaced and superseded the original filing in its entirety. Amendment No. 2 is available at https://www.sec.gov/comments/sr-nysearca-2016-64/nysearca201664-2.pdf.

⁶ 15 U.S.C. 78s(b)(2).

⁷ See Securities Exchange Act Release No. 78240, 81 FR 45332 (July 13, 2016).

⁸ 15 U.S.C. 78s(b)(2)(B).

⁹ See Securities Exchange Act Release No. 78614, 81 FR 57981 (August 24, 2016).

For the Commission, by the Division of Trading and Markets, pursuant to delegated authority.¹⁰
¹⁰ 17 CFR 200.30-3(a)(12).
Brent J. Fields,
Secretary.

[FR Doc. 2016-24699 Filed 10-12-16; 8:45 am]

BILLING CODE 8011-01-P